DEPARTMENT OF ENERGY

Federal Energy Regulatory Commission

[Docket No. RP00-344-000]

Dominion Transmission, Inc.; Notice of Technical Conference

October 13, 2000.

Take notice that a technical conference to further discuss the various issues raised by Dominion Transmission, Inc.'s (Dominion) Order No. 637 compliance filing will be held on Friday, October 27, 2000, at 10 a.m., in a room to be designated at the offices of the Federal Energy Regulatory Commission, 888 First Street NE., Washington, DC 20426.

All interested persons and Staff are permitted to attend.

Linwood A. Watson, Jr.,
Acting Secretary.

[FR Doc. 00-26835 Filed 10-18-00; 8:45 am]

BILLING CODE 6717-01-M